DEPARTMENT OF HOUSING AND URBAN DEVELOPMENT

[Docket No. FR-6255-N-02]

Notice of Intent To Prepare a Draft Environmental Impact Statement (EIS) for the One San Pedro Specific Plan Project in Los Angeles City, California; Correction

AGENCY: Office of the General Counsel, HUD.

ACTION: Notice of Intent (NOI) to prepare an Environmental Impact Statement (EIS), correction.

SUMMARY: On April 5, 2021, HUD published a Notice of Intent in the Federal Register entitled “Notice of Intent To Prepare a Draft Environmental Impact Statement (EIS) for the One San Pedro Specific Plan Project in Los Angeles City, California.” The Notice of Intent, as required by the National Environmental Policy Act (NEPA) and the California Environmental Quality Act (CEQA), notified the public of a second Public Scoping Meeting on April 27, 2021 to discuss a combined Environmental Impact Report (EIR) and Environmental Impact Statement (EIS) for the Rancho San Pedro public housing redevelopment project, located in Los Angeles, California. The notice provided the incorrect Zoom link and call-in information for the Public Scoping Meeting. Today's notice provides the correct Zoom link and call-in information for the public to use for the Tuesday, April 27, 2021 Public Scoping Meeting.

DATES: The Public Scoping Meeting to satisfy NEPA requirements will be held virtually on Tuesday, April 27, 2021, from 5 p.m. to 6:30 p.m. Pacific Time, at https://zoom.us/j/92936528288?pwd=RmN5NFJ0bVlVYi8wS2JLWXd1ekpnZz09 or by calling (669) 900-6833 (Meeting ID: 929 3652 8288, Passcode: 392390).

FOR FURTHER INFORMATION CONTACT: With respect to this technical correction, contact Aaron Santa Anna, Associate General Counsel for Legislation and Regulations, Department of Housing and Urban Development, 451 7th Street SW, Room 10238, Washington, DC 20410; telephone number 202-708-1793 (this is not a toll-free number). Persons with hearing or speech impairments may access this number through TTY by calling the toll-free Federal Information Relay Service at 800-877-8339 (this is a toll-free number).

SUPPLEMENTARY INFORMATION: On April 5, 2021 (86 FR 17621) (FR Doc. 2021-06929), HUD published a Notice of Intent in the Federal Register entitled “Notice of Intent To Prepare a Draft Environmental Impact Statement (EIS) for the One San Pedro Specific Plan Project in Los Angeles City, California.” For projects that require an Environmental Impact Statement (EIS), the Responsible Entity, as defined in 24 CFR 58.2(a)(7), must provide a Notice of Intent (NOI) to begin the public scoping process in accordance with the National Environmental Policy Act of 1969, as amended, 42 U.S.C. 431 et. seq. (NEPA); the Council of Environmental Quality (CEQ) NEPA Regulations at 40 CFR parts 1500-1508; and HUD implementing regulations at 24 CFR part 58. The April 5, 2021 NOI provided notice that the Housing Authority of the City of Los Angeles (HACLA) proposes to carry out a Section 18/Rental Assistance Demonstration (RAD) demolition/disposition through a ground lease and to use a combination of RAD Project-Based Vouchers (PBV), Tenant Projection Vouchers (TPV), and PBV authorized by the U.S. Housing Act of 1937, as amended (USHA), to redevelop the Rancho San Pedro public housing project site.

The City of Los Angeles, through the City of Los Angeles's Housing and Community Investment Department (HCID), is acting as the Responsible Entity for the Rancho San Pedro public housing project. As the California Environmental Quality Act (CEQA) similarly requires an Environmental Impact Report (EIR), HACLA and HCID intend to produce a combined EIR/EIS for the project. A Public Scoping Meeting for CEQA issues was held on February 6, 2021. The April 5, 2021 NOI gave notice of the next Public Scoping Meeting, specifically about NEPA issues, to be held virtually on April 27, 2021. The NOI provided an incorrect Zoom link and incorrect call-in information. This notice provides the correct Zoom link and call-in information.

Corrections: In the Federal Register of April 5, 2021, in FR Doc. 2021-06929 on page 17621, in the second column, replace the first paragraph of the Dates section to read: “The next Public Scoping Meeting to satisfy NEPA requirements will be held virtually on Tuesday, April 27, 2021, from 5 p.m. to 6:30 p.m. Pacific Time, at https://zoom.us/j/92936528288?pwd=RmN5NFJ0bVlVYi8wS2JLWXd1ekpnZz09 or by calling (669) 900-6833 (Meeting ID: 929 3652 8288, Passcode: 392390).”

On page 17624 of the same notice, in the first column, replace the fourth full sentence of that column to read “The date, time, and location of the next Public Scoping Meeting to satisfy NEPA requirements is as follows: Tuesday, April 27, 2021, 5 p.m. to 6:30 p.m. Pacific Time, https://zoom.us/j/92936528288?pwd=RmN5NFJ0bVlVYi8wS2JLWXd1ekpnZz09 or call (669) 900-6833 (Meeting ID: 929 3652 8288, Passcode: 392390).”

Aaron Santa Anna,
Associate General Counsel for Legislation and Regulations.

[FR Doc. 2021-08011 Filed 4-16-21; 8:45 am]

BILLING CODE 4210-67-P